DEPARTMENT OF JUSTICE

[OMB Number 1105-0025]

Agency Information Collection Activities; Proposed eCollection eComments Requested; Extension Without Change of a Previously Approved Collection; Federal Coal Lease Request

AGENCY: Antitrust Division, Department of Justice.

ACTION: 60-Day notice.

SUMMARY: The Department of Justice (DOJ), Antitrust Division (ATR), will be submitting the following information collection request to the Office of Management and Budget (OMB) for review and approval in accordance with the Paperwork Reduction Act of 1995.

DATES: Comments are encouraged and will be accepted for 60 days until March 31, 2025.

FOR FURTHER INFORMATION CONTACT: If you have additional comments especially on the estimated public burden or associated response time, suggestions, or need a copy of the proposed information collection instrument with instructions or additional information, please contact Sarah Oldfield, Deputy Chief Legal Advisor, Antitrust Division, United States Department of Justice, 950 Pennsylvania Street NW, Room 3304, Washington, DC 20530 (phone: 202-476-046).

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: Federal Coal Lease Form.

3. The agency form number, if any, and the applicable component of the Department sponsoring the collection: The form numbers are ATR-139 and ATR-140. The applicable component within the Department of Justice is the Antitrust Division.

4. Affected public who will be asked or required to respond, as well as a brief abstract: Primary: Business or other for profit. Other: None. The Department of Justice evaluates the competitive impact of issuances, transfers and exchanges of Federal coal leases. These forms seek information regarding a prospective coal lessee's existing coal reserves. The Department uses this information to determine whether the issuance, transfer or exchange of the Federal coal lease is consistent with the antitrust laws.

5. An estimate of the total number of respondents and the amount of time estimated for an average respondent to respond: It is estimated that 10 respondents will complete each form, with each response taking approximately two hours.

6. An estimate of the total public burden (in hours) associated with the collection: There are an estimated 20 annual burden hours associated with this collection, in total.

If additional information is required contact: Darwin Arceo, Department Clearance Officer, United States Department of Justice, Justice Management Division, Policy and Planning Staff, Two Constitution Square, 145 N Street NE, 4W-218, Washington, DC 20530.

Dated: January 27, 2025.
Darwin Arceo,
Department Clearance Officer, PRA, U.S. Department of Justice.

[FR Doc. 2025-01960 Filed 1-29-25; 8:45 am]

BILLING CODE 4410-12-P